DEPARTMENT OF COMMERCE

National Oceanic and Atmospheric Administration

50 CFR Part 622

[Docket No. 260218-0050]

RIN 0648-BD32

Comprehensive Fishery Management Plans for Puerto Rico, St. Croix, and St. Thomas and St. John; Correction

AGENCY: National Marine Fisheries Service (NMFS), National Oceanic and Atmospheric Administration (NOAA), Commerce.

ACTION: Final rule; correcting amendment.

SUMMARY: NMFS corrects the final rule that implemented management measures described in the Puerto Rico, St. Croix, and St. Thomas and St. John Fishery Management Plans (collectively, island-based FMPs), which published in the Federal Register on September 13, 2022. Among other measures, the final rule revised and redesignated the species tables, but inadvertently did not include revisions to the applicable species table references. The purpose of this correcting amendment is to fix these inadvertent errors.

DATES: This correction is effective February 23, 2026.

FOR FURTHER INFORMATION CONTACT: Sarah Stephenson, Southeast Regional Office, NMFS, 727-824-5305, sarah.stephenson@noaa.gov.

SUPPLEMENTARY INFORMATION: On September 22, 2020, the Secretary of Commerce approved the island-based FMPs under section 304(a)(3) of the Magnuson-Stevens Fishery Conservation and Management Act (Magnuson-Stevens Act). On September 13, 2022, NMFS published a final rule in the Federal Register (87 FR 56204) to implement management measures in the island-based FMPs, pursuant to section 304(b)(3) of the Magnuson-Stevens Act, which became effective on October 13, 2022. Pursuant to section 305(d) of the Magnuson-Stevens Act, NMFS is issuing a correcting amendment to the final rule.

Correction

The regulatory text of the final rule implementing the island-based FMPs revised and redesignated the species tables in Appendix A to part 622. The species tables that had been located in Appendix A were moved to subparts S, T, and U and the table references in Appendix A were redesignated as follows: Table 1 to Appendix A to part 622 for Gulf Reef Fish; Table 2 to Appendix A to part 622 for South Atlantic Snapper-Grouper; and Table 3 to Appendix A to part 622 for Atlantic Dolphin and Wahoo. The regulatory text inadvertently did not include the necessary revisions to the corresponding table number in the definitions of “Gulf reef fish” and “South Atlantic snapper-grouper” contained in 50 CFR 622.2. Similarly, the regulatory text also inadvertently did not include revisions to the corresponding table number for South Atlantic snapper-grouper contained in 50 CFR 622.287(b)(8) (South Atlantic snapper-grouper bag and possession limits). Through this correcting amendment, NMFS corrects the references to the table numbers in each of these three locations to Table 1 in Appendix A for the definition of Gulf reef fish and Table 2 in Appendix A for the definition of South Atlantic snapper-grouper contained in 50 CFR 622.2, and Table 2 in Appendix A for the recreational bag limits for South Atlantic snapper-grouper contained in 50 CFR 622.287(b)(8). The island-based FMPs and the implementing final rule did not revise regulations for species managed by the Gulf Fishery Management Council or the South Atlantic Fishery Management Council.

Classification

NMFS is issuing this rule pursuant to section 305(d) of the Magnuson-Stevens Act. Pursuant to section 305(d), this action is necessary to be consistent with management of the Gulf reef fish fishery management unit under the FMP for the Reef Fish Resources of the Gulf and the South Atlantic snapper-grouper fishery management unit under the FMP for the Snapper-Grouper Fishery of the South Atlantic Region and with the final rule for the island-based FMPs. The NMFS Assistant Administrator (AA) has determined that this final rule is consistent with the island-based FMPs, the Magnuson-Stevens Act, and other applicable law.

This final rule has been determined to be not significant under Executive Order 12866. This final rule is not an Executive Order 14192 regulatory action because this action is not significant under Executive Order 12866.

NMFS has determined that this action would not have a substantial direct effect on one or more Indian Tribes, on the relationship between the Federal Government and Indian Tribes, or on the distribution of power and responsibilities between the Federal Government and Indian Tribes; therefore, consultation with Tribal officials under Executive Order 13175 is not required, and the requirements of sections (5)(b) and (5)(c) of Executive Order 13175 also do not apply. A Tribal summary impact statement under section (5)(b)(2)(B) and section (5)(c)(2)(B) of Executive Order 13175 is not required and has not been prepared.

Pursuant to 5 U.S.C. 553(b)(B), the AA finds good cause to waive prior notice and opportunity for additional public comment because it would be unnecessary. This correcting amendment updates references to species tables in Appendix A to part 622 for both South Atlantic snapper-grouper and Gulf reef fish that were inadvertently not included in the final rule for the island-based FMPs. Providing prior notice and opportunity for public comment is unnecessary because the Caribbean island-based FMPs did not revise the specific species tables for South Atlantic snapper-grouper and Gulf reef fish and only changed their location in the regulations within Appendix A. The regulations that implemented the species tables for South Atlantic snapper-grouper and Gulf reef fish have already been subject to notice and public comment. Providing an additional opportunity for public comment would add unnecessary delay to the correct certain regulatory citations to these species tables. Further, retaining the incorrect references to tables in Appendix A will continue to cause confusion regarding accessing the applicable regulatory text for South Atlantic snapper-grouper and Gulf reef fish.

NMFS also finds good cause, pursuant to 5 U.S.C. 553(d)(3), to waive the 30-day delay in effective date for this correcting amendment. It corrects an inadvertent error in the regulatory text by updating the table number references for “South Atlantic snapper-grouper” and “Gulf reef fish.” The incorrect references to the applicable species tables may cause confusion among the public who seek to refer to the tables after reviewing regulatory text with the Gulf reef fish and South Atlantic snapper-grouper regulations in 50 CFR 622.2 and 622.287(b)(8). This rule does not revise the species tables, or impose a new burden or change policy. For these reasons, there is good cause to waive the 30-day delay in effective date for this final rule.

Because prior notice and opportunity for public comment are not required for this rule by 5 U.S.C. 553, or any other law, the analytical requirements of the Regulatory Flexibility Act, 5 U.S.C. 601 et seq., are inapplicable. Accordingly, no Regulatory Flexibility Analysis is required and none has been prepared.

This final rule contains no information collection requirements under the Paperwork Reduction Act of 1995.

List of Subjects in 50 CFR Part 622

Caribbean, Commercial, Fisheries, Fishing, Recreational.

Dated: February 19, 2026.
Sarah Malloy,
Acting Deputy Assistant Administrator for Regulatory Programs, National Marine Fisheries Service.

Accordingly, 50 CFR part 622 is corrected by making the following correcting amendments:

PART 622—FISHERIES OF THE CARIBBEAN, GULF OF AMERICA, AND SOUTH ATLANTIC

1. The authority citation for part 622 continues to read as follows:

Authority: 16 U.S.C. 1801 et seq.

2. In § 622.2, revise the definition of “Gulf reef fish” and “South Atlantic snapper-grouper” to read as follows:

§ 622.2 Definitions and acronyms.

* * * * *

Gulf reef fish means one or more of the species, or a part thereof, listed in table 1 in appendix A of this part.

* * * * *

South Atlantic snapper-grouper means one or more of the species, or a part thereof, listed in table 2 in appendix A of this part.

* * * * *

3. In § 622.187, revise paragraph (b)(8) to read as follows:

§ 622.187 Bag and possession limits.

* * * * *

(b) * * *

(8) South Atlantic snapper-grouper (whitebone porgy, jolthead porgy, knobbed porgy, saucereye porgy, scup, almaco jack, banded rudderfish, lesser amberjack, white grunt, margate, sailor's choice, Atlantic spadefish, gray triggerfish, bar jack), combined—20. However, excluded from this 20-fish bag limit are tomtate, South Atlantic snapper-grouper ecosystem component species (specified in table 2 of appendix A of this part), and those specified in paragraphs (b)(1) through (7) and paragraphs (b)(9) and (10) of this section. Within the 20-fish bag limit, no more than 10 fish can be of any one of these single snapper-grouper species.

* * * * *

[FR Doc. 2026-03507 Filed 2-20-26; 8:45 am]

BILLING CODE 3510-22-P